DEPARTMENT OF DEFENSE

Department of the Air Force

Privacy Act of 1974; System of Records

AGENCY: Department of the Air Force, DoD.

ACTION: Notice to alter a system of records.

SUMMARY: The Department of the Air Force is altering a system of records notice in its existing inventory of record systems subject to the Privacy Act of 1974, (5 U.S.C. 552a), as amended.

The alteration expands the category of individuals covered to include ‘foreign military personnel, civilians, faculty and staff’, and expands the categories of records maintained to include ‘aero rating, flying status, and equipment issue’.

DATES: This proposed action will be effective without further notice on August 9, 2004, unless comments are received which result in a contrary determination.

ADDRESSES: Send comments to the Air Force Privacy Act Manager, Office of the Chief Information Officer, AF-CIO/P, 1155 Air Force Pentagon, Washington, DC 20330-1155.

FOR FURTHER INFORMATION CONTACT: Mrs. Anne Rollins at (703) 696-6280.

SUPPLEMENTARY INFORMATION: The Department of the Air Force systems of records notices subject to the Privacy Act of 1974, (5 U.S.C. 552a), as amended, have been published in the Federal Register and are available from the address above.

The proposed system report, as required by 5 U.S.C. 552a(r) of the Privacy Act of 1974, as amended, was submitted on June 29, 2004, to the House Committee on Government Reform, the Senate Committee on Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: June 30, 2004.
L.M. Bynum,
Alternate OSD Federal Register Liaison Officer, Department of Defense.

F036 AETC R

System name:

Student Records (June 11, 1997, 62 FR 31793).

Changes:

System identifier:

Replace entry with ‘F036 AF AETC A’.

* * * * *

Categories of individuals covered by the system:

Replace entry with ‘Military personnel, foreign military personnel, and civilians assigned to the centers or schools as students, faculty and staff.’

Categories of records in the system:

Replace entry with ‘Student records which may include but are not limited to name, rank, Social Security Number, branch of service, AFSC or equivalent, date of birth, education level, aero rating, aircraft type, flying status, gender, type of commission, commissioning date, student identification number, class number, student computer login, phone number, final grade, permanent and/or temporary duty location, assigned instructors, certificates, and equipment issue.’

* * * * *

Safeguards:

Add to entry ‘Computer records are protected by computer system software.’

Retention and disposal:

Delete entry and replace with ‘Student grade books and training review board records are destroyed one year after completion of training; summary training records are retained in office files for two years after completion or discontinuance of course; other records are retained in office files until superseded, obsolete, no longer needed for reference or on inactivation. Records are destroyed by tearing into pieces, shredding, pulping, macerating or burning. Computer records are destroyed by erasing, deleting or overwriting.’

* * * * *

Record source categories:

Replace entry with ‘Information obtained from students, staff, correspondence generated within the agency in the conduct of official business, educational institutions, and civil authorities.’

* * * * *

F036 AF AETC A

System name:

Student Records.

System location:

Professional Military Education Centers, NCO Academies and schools at Air Force Major Commands and bases.

Categories of individuals covered by the system:

Military personnel, foreign military personnel, and civilians assigned to the centers or schools as students, faculty and staff.

Categories of records in the system:

Student records which may include but are not limited to name, rank, Social Security Number, branch of service, AFSC or equivalent, date of birth, education level, aero rating, aircraft type, flying status, gender, type of commission, commissioning date, student identification number, class number, student computer login, phone number, final grade, permanent and/or temporary duty location, assigned instructors, certificates, and equipment issue.

Authority for maintenance of the system:

10 U.S.C. 8013, Secretary of the Air Force; Air Force Instruction 36-2201, Air Force Training Program; and E.O. 9397 (SSN).

Purpose(s):

Used as a record of attendance and training, class standing, completion or elimination, as locator, supply issue, and as a source of statistical information.

The DoD ‘Blanket Routine Uses' published at the beginning of the Air Force's compilation of systems of records notices apply to this system.

Policies and practices for storing, retrieving, accessing, retaining, and disposing of records in the system:

Storage:

Maintained in paper files, and on computer and computer output products.

Retrievability:

Retrieved by name and Social Security Number.

Safeguards:

Records are stored in security file containers/cabinets or rooms. Records are accessed by the custodian of the system or persons responsible for maintenance of the records in course of their official duties. Computer records are protected by computer system software.

Retention and disposal:

Student grade books and training review board records are destroyed one year after completion of training; summary training records are retained in office files for two years after completion or discontinuance of course; other records are retained in office files until superseded, obsolete, no longer needed for reference or on inactivation. Records are destroyed by tearing into pieces, shredding, pulping, macerating or burning. Computer records are destroyed by erasing, deleting or overwriting.

System manager(s) and address:

Superintendent for PME at each Major Command, commandant at each academy or leadership school or director or personnel at each base where a school is located. Official mailing addresses are published as an appendix to the Air Force's compilation of systems of records notices.

Notification procedure:

Individuals seeking to determine whether information about themselves is contained in this system should address written inquiries to or visit the Superintendent of PME at each Major Command, commandant at each academy or leadership school or director of personnel at each base where a school is located. Official mailing addresses are published as an appendix to the Air Force's compilation or of systems of records notices.

Record access procedures:

Individuals seeking access to information about themselves contained in this system should address written inquiries to or visit the Superintendent for PME at each Major Command, commandant at each academy or leadership school or director of personnel at each base where a school is located. Official mailing addresses are published as an appendix to the Air Force's compilation of systems of records notices.

Contesting record procedures:

The Air Force rules for accessing records, and for contesting contents and appealing initial agency determinations are published in Air Force Instruction 33-332; 32 CFR part 806b; or may be obtained from the system manager.

Record source categories:

Information obtained from students, staff, correspondence generated within the agency in the conduct of official business, educational institutions, and civil authorities.

Exemptions claimed for the system:

None.

[FR Doc. 04-15439 Filed 7-7-04; 8:45 am]

BILLING CODE 5001-06-M